DEPARTMENT OF COMMERCE

National Oceanic and Atmospheric Administration

RIN 0648-XR75

Fisheries of the Northeastern United States; Essential Fish Habitat (EFH) Components of Fishery Management Plans (Northeast Multispecies, Atlantic Sea Scallop, Monkfish, Atlantic Herring, Skates, Atlantic Salmon, and Atlantic Deep-Sea Red Crab) 5-year Review

AGENCY: National Marine Fisheries Service (NMFS), National Oceanic and Atmospheric Administration (NOAA), Commerce.

ACTION: Supplemental notice of intent (NOI) to prepare an environmental impact statement (EIS); comment period reopened.

SUMMARY: NMFS is reopening the public comment period for the supplemental NOI to prepare an EIS for the Omnibus Habitat Amendment that was published on October 5, 2009. This is necessary because some comments that were submitted via e-mail may not have been delivered properly. This notice reopens the comment period to ensure all interested parties' comments are received and addressed correctly.

DATES: Written comments must be received on or before 5 p.m. e.s.t., December 21, 2009.

ADDRESSES: You may submit comments by any of the following methods:

• E-mail: HabitatNOI@noaa.gov.

• Mail: Paul J. Howard, Executive Director, New England Fishery Management Council, 50 Water Street, Newburyport, MA 01950.

• Fax: (978) 465-3116.

FOR FURTHER INFORMATION CONTACT: Paul J. Howard, Executive Director, New England Fishery Management Council (978) 465-0492.

SUPPLEMENTARY INFORMATION: On October 5, 2009, the New England Fishery Management Council (Council) announced that it is in the process of preparing a programmatic Environmental Impact Statement (EIS) and Omnibus Amendment to the fishery management plans for Northeast multispecies, Atlantic sea scallop, monkfish, Atlantic herring, skates, Atlantic salmon, and Atlantic deep-sea red crab (74 FR 51126). This NOI proposed that the Council would prepare one final EIS that incorporates all topics considered in the development of the Omnibus Amendment, rather than preparing a final Phase 1 EIS prior to completing work on Phase 2 topics. During that scoping period, the Council sought comments on its intent to not complete a Phase 1 Final EIS, as well as comments on any new scientific information identified since the 2004 scoping period that is pertinent to the development of the Omnibus Amendment.

The comment period for that NOI closed on November 4, 2009. Since that time it has come to the Council's attention that comments submitted via e-mail may not have been delivered. This problem did not impact written comments submitted through the mail or by fax.

However, the Council has decided to reopen the comment period and encourages individuals that submitted information through e-mail to resubmit their comments. For additional information regarding this action, please consult the prior NOI cited above.

Authority: 16 U.S.C. 1801 et seq.

Dated: December 2, 2009.
Emily H. Menashes,
Acting Director, Office of Sustainable Fisheries, National Marine Fisheries Service.

[FR Doc. E9-29065 Filed 12-04-09; 8:45 am]

BILLING CODE 3510-22-S